POSTAL SERVICE

39 CFR Part 111

Periodicals Mail Enclosed With Merchandise Sent at Parcel Post or Bound Printed Matter Rates

AGENCY: Postal Service.

ACTION: Final rule.

SUMMARY: This final rule allows sample copies of authorized and pending Periodicals publications to be enclosed with merchandise mailed at Parcel Post or Bound Printed Matter postage rates.

DATES: Effective October 3, 2004.

FOR FURTHER INFORMATION CONTACT: Donald Lagasse, (202) 268-7269, Donald.T.Lagasse@usps.gov.

SUPPLEMENTARY INFORMATION: On February 25, 2004, pursuant to 39 U.S.C. 83623, the Postal Service filed with the Postal Rate Commission a request for a decision recommending a minor mail classification change. The change allows sample copies of authorized and pending Periodicals publications to be enclosed with merchandise mailed at Parcel Post or Bound Printed Matter rates. This change was approved by the Board of Governors on July 19, 2004, with an implementation date of October 3, 2004.

This change does not affect any existing standards (e.g., circulation requirements) for Periodicals rates. To determine postage on mail entered under the new standard, postage of the Parcel Post or Bound Printed Matter rates is based on the combined weight of the sample publication and the host piece.

This change is desirable from the point of view of both publishers and the Postal Service because it provides another venue for promoting Periodicals and Package Services. The new standards benefit customers, printers, advertisers, and all affected parties by providing an opportunity for additional subscriptions, thereby creating more revenue and volume.

Since advertising is not permitted in items mailed at Library Mail and Media Mail rates, enclosures of Periodicals publications sample copies are limited to Parcel Post and Bound Printed Matter mailpieces.

Summary of Comments

The Postal Service received three comments on the September 2, 2004, proposal (69 FR 53664). Two commenters strongly supported the proposal, but requested that the Postal Service expand the rule to include merchandise sent at Standard Mail rates. This request is outside the scope of this rulemaking. The Postal Rate Commission case authorized only a limited exception to the prohibition against entering Periodicals at Package Service rates. The prohibition against enclosing Periodicals in Standard Mail pieces remains in place at this time. The third commenter expressed concerns as to why the Postal Service provides discounts to any mailer at any mail class. This comment is also outside the scope of this rulemaking, and postal policies in this area are consistent with the ratemaking provisions established by statute.

For the reasons discussed above, the Postal Service hereby adopts the following amendments to the Domestic Mail Manual, which is incorporated by reference in the Code of Federal Regulations (see 39 CFR part 111).

List of Subjects in 39 CFR Part 111

Administrative practice and procedure, Postal Service.

PART 111—[AMENDED]

1. The authority citation for 39 CFR part 111 continues to read as follows:

Authority: U.S.C. 552(a); 39 U.S.C. 101, 401, 403, 404, 414, 3001-3011, 3201-3219, 3403-3406, 3621, 3626, 5001.

2. Amend the following sections of the Domestic Mail Manual (DMM) as set forth below:

E Eligibility

* * * * *

E700 Package Services

E710 Basic Standards

1.0 BASIC INFORMATION

1.1 Definition

[Amend 1.1 by revising the first sentence to read as follows:]

Package Services mail consists of mailable matter that is neither mailed or required to be mailed as First-Class Mail nor entered as Periodicals (except as permitted under 1.7) unless permitted or required by standard or as Customized MarketMail under E660. * * *

* * * * *

[Add new section 1.7 to read as follows:]

1.7 Attachments or Enclosures of Periodicals Sample Copies

Sample copies of authorized and pending Periodicals publications may be enclosed or attached with merchandise sent at Parcel Post or Bound Printed Matter rates. Postage at the Parcel Post or Bound Printed Matter rates is based on the combined weight of the host piece and the sample copies enclosed.

* * * * *

An appropriate amendment to 39 CFR part 111 will be published to reflect these changes.

Neva R. Watson,
Attorney, Legislative.

[FR Doc. 05-975 Filed 1-18-05; 8:45 am]

BILLING CODE 7710-12-P